FEDERAL HOUSING FINANCE BOARD

Sunshine Act Meeting; Federal Register Citation of Previous Notice: 67 FR 62472, October 7, 2002

ACTION: Notice; correction.

SUMMARY: The Federal Housing Finance Board published a Sunshine Act Notice in the Federal Register on October 7, 2002, regarding the Board of Directors meeting of October 9, 2002. The Notice contained an incorrect title of an agenda item.

Correction

In the Federal Register on October 7, 2002, in FR 67, Number 194, on page 62472, correct the last agenda item to read:

• Appointment—Financing Corporation Directorate (Tentative)

CONTACT PERSON FOR MORE INFORMATION: Elaine L. Baker, Secretary to the Board, (202) 408-2837.

Arnold Intrater,
General Counsel.

[FR Doc. 02-25915 Filed 10-7-02; 2:29 pm]

BILLING CODE 6725-01-P